SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: February 1-28, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and 806.22(f) for the time period specified above:

Rescinded ABR Issued:

1. EQT Production Company, Pad ID: Phoenix H, ABR-201010058.R1, Morris Township, Tioga County, Pa.; Rescind Date: February 20, 2018.

2. EQT Production Company, Pad ID: Doe, ABR-201102023.R1, Shippen Township, Cameron County, Pa.; Rescind Date: February 20, 2018.

3. EQT Production Company, Pad ID: Stoney Brook, ABR-201105008.R1, Jay Township, Elk County, Pa.; Rescind Date: February 20, 2018.

4. EQT Production Company, Pad ID: Phoenix P, ABR-201105024.R1, Duncan Township, Tioga County, Pa.; Rescind Date: February 20, 2018.

5. EQT Production Company, Pad ID: Gobbler, ABR-201107039.R1, Huston Township, Clearfield County, Pa.; Rescind Date: February 20, 2018.

6. EQT Production Company, Pad ID: Ginger, ABR-201506001, Jay Township, Elk County, Pa.; Rescind Date: February 20, 2018.

Authority: Pub. L. 91-575, 84 Stat. 1509 et seq., 18 CFR parts 806, 807, and 808.

Dated: April 6, 2018.
Stephanie L. Richardson,
Secretary to the Commission.

[FR Doc. 2018-07424 Filed 4-10-18; 8:45 am]

BILLING CODE 7040-01-P